INTERNATIONAL TRADE COMMISSION

[Inv. No. 337-TA-517]

In the Matter of Certain Shirts With Pucker-Free Seams and Methods of Producing Same; Notice of Commission Decision Not To Review an Initial Determination Granting Complainants' Motion To Withdraw the Complaint and To Terminate the Investigation

AGENCY: U.S. International Trade Commission.

ACTION: Notice.

SUMMARY: Notice is hereby given that the U.S. International Trade Commission has determined not to review an initial determination (ID) issued by the presiding administrative law judge (ALJ) in the above-captioned investigation terminating the investigation on the basis of withdrawal of the complaint.

FOR FURTHER INFORMATION CONTACT: Andrea Casson, Esq., Office of the General Counsel, U.S. International Trade Commission, 500 E Street, SW., Washington, DC 20436, telephone 202-205-3104. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on August 3, 2004, based on a complaint filed by TAL Apparel Limited, TALTECH Limited, and The Apparel Group Limited (collectively “TAL”) 69 FR 47857 (August 6, 2004.) The complaint, as amended alleges violations of section 337 of the Tariff Act of 1930, 337 U.S.C. 1337, in the importation into the United States, sale for importation, and/or sale within the United States after importation of certain shirts with pucker-free seams that infringe certain claims of U.S. Patent No. 5,568,779 and U.S. Patent No. 5,590,615. The complaint names as respondents Esquel Apparel, Inc. and Esquel Enterprises Limited (collectively “Esquel”).

On February 1, 2005, TAL filed a motion to withdraw the complaint and terminate the investigation pursuant to Commission rule 210.21(a). On February 3, 2005, Esquel and the Commission investigative attorney each filed responses to the motion indicating that they did not oppose the motion. On February 8, 2005, the ALJ issued an ID (Order No. 22) granting TAL's motion. No party filed a petition for review of the ID.

This action is taken under the authority of section 337 of the Tariff Act of 1930, 19 U.S.C. 1337, and § 210.42(h) of the Commission Rules of Practice and Procedure, 19 CFR 210.42(h).

Issued: March 4, 2005.
By order of the Commission.
Marilyn R. Abbott,
Secretary to the Commission.

[FR Doc. E5-1014 Filed 3-9-05; 8:45 am]

BILLING CODE 7020-02-P